DEPARTMENT OF TRANSPORTATION

Federal Aviation Administration

RTCA; Special Committee 192; National Airspace Review Planning and Analysis

Pursuant to section 10(a)(2) of the Federal Advisory Committee Act (P.L. 92-463, 5 U.S.C., Appendix 2), notice is hereby given for a Special Committee 192 meeting to be held September 22, 2000, starting at 10:00 a.m. The meeting will be held at RTCA, Inc., 1140 Connecticut Avenue, NW., Suite 1020, Washington, DC 20036.

The agenda will include: (1) Welcome and Introductory Remarks; (2) Review/Approve Previous Meeting Minutes; (3) Review/Approve edited User Recommendations on FAA Order 7400.2, Procedures for Handling Airspace Matters including detailed discussion on Class B and C airspace design specifications; (3) Other Business; (4) Date and Location of Next Meeting; (4) Closing.

Attendance is open to the interested public but limited to space availability. With the approval of the chairman, members of the public may present oral statements at the meeting. Persons wishing to present statements or obtain information should contact the RTCA Secretariat, 1140 Connecticut Avenue, NW., Washington, DC 20036; (202) 833-9339 (phone), (202) 833-9434 (fax), or http://www.rtca.org (web site). Members of the public may present a written statement to the committee at any time.

Issued in Washington, DC, on August 24, 2000.
Janice L. Peters,
Designated Official.

[FR Doc. 00-22361 Filed 8-30-00; 8:45 am]

BILLING CODE 4910-13-M